DEPARTMENT OF DEFENSE

Department of the Army

Advisory Committee Meeting Notice

AGENCY: U.S. Army Training and Doctrine Command (TRADOC).

ACTION: Notice of Meeting.

SUMMARY: In accordance with Section 10(a)(2) of the Federal Advisory Committee Act (P.L. 92-9463), announcement is made of the following meeting:

Name of Committee: Distance Learning/Training Technology Subcommittee of the Army Education Advisory Committee.

Date: 1-2 November 2000.

Place: Institute for Defense Analysis (IDA) Alexandria, Virginia.

Time: 0800-1630 on 1 November 2000; 0800-1400 on 2 November 2000.

Proposed Agenda: Discussions will Include: The Army University Access Online Program and Distance Learning, how the two programs are mutually supportive; the National Guard and Distance Learning; Army Research Institute (ARI), recent results on the long term effectiveness of DL and plans for collaborative learning in online training environments; Update on the status of the development and delivery of a learning (student) management system to support DL.

Purpose of the Meeting: The members will advise the Assistant Deputy Chief of Staff (ADCST), HQ Training and Doctrine Command (TRADOC), on matters pertaining to education and training technologies.

FOR FURTHER INFORMATION CONTACT: All communications regarding this subcommittee should be addressed to Mr. Richard Karpinski, at Commander, Headquarters TRADOC, ATTN: ATTG-CF (Mr. Karpinski), Fort Monroe, VA 23651-5000; telephone number (757) 728-5531.

SUPPLEMENTARY INFORMATION: Meeting of the advisory committee is open to the public. Because of restricted meeting space, attendance will be limited to those persons who have notified the Advisory Committee Management Office in writing at least five days prior to the meeting of their intention to attend. Contact Mr. Karpinski (757-728-5531) for meeting agenda and specific locations.

Any member of the public may file a written statement with the committee before, during, or after the meeting. To the extent that time permits, the committee chairman may allow public presentations or oral statements at the meeting.

Robert E. Seger,
Senior Executive Service, Assistant Deputy Chief of Staff for Training.

[FR Doc. 00-26492 Filed 10-13-00; 8:45 am]

BILLING CODE 3710-08-M